DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 79 FR 21760-21763, dated April 17, 2014) is amended to reflect the reorganization of the Office of Safety, Security and Asset Management.

Section C-B, Organization and Functions, is hereby amended as follows:

Delete items (1), (2) and (3) of the functional statement for the Office of Operations (CAJ13), Office of the Director (CAJS1), Office of the Safety, Security and Asset Management (CAJS), and renumber the remaining items accordingly.

Delete item (7) of the functional statement for the Physical Security Laboratory and Technical Branch (CAJSEB), Security Services Office (CAJSE), Office of the Safety, Security and Asset Management (CAJS), and renumber remaining items accordingly.

Delete item (11) of the functional statement for the Physical Security Operations Branch (CAJSEC), Security Services Office (CAJSE), Office of the Safety, Security and Asset Management (CAJS), and renumber remaining items accordingly.

After the mission statement for the Security Services Office (CAJSE), insert the following:

Internal Emergency Management Branch (CAJSEE). To lead a comprehensive internal emergency management program that efficiently coordinates CDC resources to, first and foremost, protect lives, then to safeguard the environment and property through mitigation, preparedness training, response, continuity and recovery from all natural, man-made and technological hazards that may impact CDC facilities: (1) Implements, maintains, and updates CDC's Occupant Emergency Plan/Program (OEP); (2) conducts and evaluates annual tabletop, functional, and full-scale exercises for all CDC facilities with Designated Officials and Occupant Emergency Organizations (OEO); (3) recommends future emergency management and emergency response-related programs, policies, and/or procedures; (4) provides leadership and coordination in planning and implementation for internal emergencies; and (5) provides leadership and coordination in planning and implementation for internal emergency incidents affecting the CDC facilities, including incident response and support.

James D. Seligman,
Acting Chief Operating Officer, Centers for Disease Control and Prevention.

[FR Doc. 2015-00146 Filed 1-8-15; 8:45 am]

BILLING CODE 4160-18-P